POSTAL REGULATORY COMMISSION

[Docket No. CP2013-22; Order No. 1557]

International Mail Contract

AGENCY: Postal Regulatory Commission.

ACTION: Notice.

SUMMARY: The Commission is noticing a recent Postal Service filing concerning an additional inbound competitive Multi-Service Agreements with Foreign Postal Operators 1 negotiated service agreement with Hongkong Post. This notice informs the public of the filing, invites public comment, and takes other administrative steps.

DATES: Comments are due: December 10, 2012.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Contents of Filing

III. Commission Action

IV. Ordering Paragraphs

I. Introduction

On November 28, 2012, the Postal Service filed a Notice, pursuant to 39 CFR 3015.5, stating that it has entered into an additional negotiated service agreement with foreign postal operator Hongkong Post (Agreement).¹ The Postal Service seeks to have the inbound portion of the Agreement, which concerns delivery of inbound Air CP ², included within Inbound Competitive Multi-Service Agreements with Foreign Postal Operators 1 (MC2012-34) on the competitive product list. Notice at 1.

¹ Notice of United States Postal Service of Filing Functionally Equivalent Inbound Competitive Multi-Service Agreement with a Foreign Postal Operator, November 28, 2012 (Notice).

² “CP” is an abbreviation used to identify or reference international parcel post (from the French phrase colis postaux, “postal package”).

II. Notice of Filing

The Postal Service's filing consists of the Notice, an Excel file containing redacted financial workpapers, and four attachments. Attachment 1 is a redacted copy of the Agreement. Attachment 2 is the certified statement required by 39 CFR 3015.5(c)(2). Attachment 3 is a redacted copy of the Governors' Decision No. 10-3. Attachment 4 is an application for non-public treatment of unredacted material. Id. at 3. The Agreement's intended effective date is January 1, 2013. Id. at 4. The term is for one year after the effective date, unless terminated sooner. Id.

The Postal Service reviews the regulatory history of the Inbound Competitive Multi-Service Agreements with Foreign Operators 1 product and identifies the TNT Agreement (approved in Docket No. CP2010-95) as the baseline agreement for purposes of determining the functional equivalence of the instant Agreement.³ Id. at 3. It asserts that the instant Agreement fits within applicable Mail Classification Schedule language and addresses functional equivalency with the baseline agreement, including similarity of cost characteristics. Id. at 3-7. The Postal Service also identifies differences between the two contracts, such as the deletion of an article, the addition of an article, revisions to articles as a result of negotiations, and the term, but asserts that these differences do not detract from a finding of functional equivalency. Id. at 5-6.

³ The Postal Service identifies Governors' Decision No. 10-3 as the enabling Governors' Decision. Id. at 5. The status of the TNT Agreement as the baseline agreement was confirmed in Order No. 840, issued September 7, 2011.

III. Commission Action

Notice of establishment of docket. The Commission establishes Docket No. CP2013-22 for consideration of matters raised by the Notice. The Commission appoints Allison J. Levy to serve as Public Representative in this docket.

Interested persons may submit comments on whether the Postal Service's filing in the captioned docket is consistent with the policies of 39 U.S.C. 3632 and 3633 and the requirements of 39 CFR part 3015. Comments are due no later than December 10, 2012. The public portions of this filing can be accessed via the Commission's Web site (http://www.prc.gov). Information on obtaining access to sealed material appears in 39 CFR part 3007.

IV. Ordering Paragraphs

It is ordered:

1. The Commission establishes Docket No. CP2013-22 for consideration of matters raised by the Postal Service's November 28, 2012 Notice.

2. Pursuant to 39 U.S.C. 505, Allison J. Levy is appointed to serve as an officer of the Commission (Public Representative) to represent the interests of the general public in this proceeding.

3. Comments by interested persons in this proceeding are due no later than December 10, 2012.

4. The Secretary shall arrange for publication of this Order in the Federal Register.

By the Commission.
Ruth Ann Abrams,
Acting Secretary.

[FR Doc. 2012-29287 Filed 12-4-12; 8:45 am]

BILLING CODE 7710-FW-P